ENVIRONMENTAL PROTECTION AGENCY

[ER-FRL-6659-1]

Environmental Impact Statements; Notice of Availability

Responsible Agency: Office of Federal Activities, General Information (202) 564-7167 or http://www.epa.gov/compliance/nepa/.

Weekly receipt of Environmental Impact Statements filed December 20, 2004, through December 23, 2004, pursuant to 40 CFR 1506.9.

EIS No. 040595, Draft EIS, AFS, CA, Modoc National Forest Noxious Weed Treatment Project, Proposes to Implement a Control and Eradication Project, Lassen, Modoc and Siskiyou Counties, CA Comment Period Ends: February 14, 2005, Contact: Robert Haggard (530) 233-8840.

EIS No. 040596, Draft Supplement, IBW, CA, South Bay International Wastewater Treatment Plan (SBIWTP), To Address Treatment Alternatives from Tijuana, Mexico that cross into United States/Mexico Border in San Diego County, CA, Comment Period Ends: February 28, 2005, Contact: Daniel Borunda (915) 832-4701.

EIS No. 040597, Draft EIS, AFS, WI, Lakewood/Laona Plantation Thinning Project, To Implement Vegetation Management Activities, Chequamegon-Nicolet National Forest, Lakewood Ranger District, Forest, Langlade and Oconto Counties, WI, Comment Period Ends: February 14, 2005, Contact: Annie F. Archie (715) 362-1300.

EIS No. 040598, Final EIS, AFS, ID, Caribou Sheep Allotment Management Plan Revision, Authorize Continue Livestock Grazing, Caribou-Targhee National Forest, Palisades Ranger District, Bonneville County, ID, Wait Period Ends: January 30, 2005, Contact: Greg Hanson (208) 523-1412.

EIS No. 040599, Final Supplement, FTA, NY, Erie Canal Harbor Project (formerly known as the Buffalo Inner Harbor Development Project) Updated Information on the Original Project, City of Buffalo, Erie County, NY, Wait Period Ends: January 30, 2005, Contact: Irwin Kessman (212) 668-2170.

EIS No. 040600, Draft EIS, FHW, PA, Southern Beltway Transportation Project, Improvement from US-22 in Robinson Township to Interstate 79 in South Fayette Township and Cecil Township, Funding and U.S. Army COE Section 404 Permit, Washington and Allegheny Counties, PA, Comment Period Ends: February 25, 2005, Contact: James A. Cheatham (717) 221-3461.

EIS No. 040601, Final EIS, NRS, Programmatic EIS -Emergency Watershed Protection Program, Improvements and Expansion, To Preserve Life and Property Threatened by Disaster-Caused Erosion and Flooding, U.S. 50 States and Territories except Coastal Area, Wait Period Ends: January 30, 2005, Contact: Victor Cole (202) 690-4575.

EIS No. 040602, Final EIS, NOA, WA, OR, Puget Sound Chinook Harvest Resource Management Plan (RMP) 2004-2009, Implementation, Endangered Species Act, OR and WA, Wait Period Ends: January 31, 2005, Contact: Susan Bishop (206) 526-4587.

Amended Notices

EIS No. 040465, Draft EIS, NPS, AZ, Colorado River Management Plan, To Provide a Wilderness-Type River Experience for Visitors, General Management Plan, Grand Canyon National Park, Colorada River, Coconino County, AZ, Comment Period Ends: February 01, 2005, Contact: Rick Ernenwein (928) 779-6279.

Revision of Federal Register Notice Published on 10/08/04: CEQ Comment Period Ending 01/06/2005 has been Extended to 02/01/2005.

Dated: December 27, 2004.
Ken Mittelholtz,
Environmental Protection Specialist, Office of Federal Activities.

[FR Doc. 04-28604 Filed 12-29-04; 8:45 am]

BILLING CODE 6560-50-P